FEDERAL EMERGENCY MANAGEMENT AGENCY

44 CFR Part 65

[Docket No. FEMA-D-7521]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Executive Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Autauga, Elmore, Lowndes, & Montgomery | City of Montgomery | January 15, 2002, January 22, 2002, The Montgomery Advertiser | The Honorable Bobby N. Bright, Mayor of the City of Montgomery, P.O. Box 1111, Montgomery, Alabama 36101-1111 | Apr. 23, 2002 | 010174 D
Connecticut: Fairfield | Town of Greenwich | February 11, 2002, February 18, 2002, Greenwich Times | Mr. Richard Bergstresser, First Selectman for the Town of Greenwich, 101 Field Point Road, Greenwich, Connecticut 06830 | Feb. 4, 2002 | 090008 C
Florida:
Manatee | Unincorporated Areas | January 15, 2002, January 21, 2002, Sarasota Herald Tribune | Mr. Ernie Padgett, County Administrator, 1112 Manatee Avenue West, P.O. Box 1000, Bradenton, Florida 34206 | Jan. 7, 2002 | 120153 E
Orange | Unincorporated Areas | January 16, 2002, January 23, 2002, The Orlando Sentinel | Dr. M. Krishnamurthy, P.E., Orange County Stormwater Management Department, 4200 South John Young Parkway, Orlando, Florida 32839-9205 | Apr. 24, 2002 | 120179 D
Osceola | Unincorporated Areas | December 14, 2001, December 21, 2001, Osceola Sentinel | Mr. Robert Fernandez, Osceola County Manager, 1 Courthouse Square, Suite 4700, Kissimmee, Florida 34741-5488 | Dec. 7, 2001 | 120189 D
Santa Rosa | Unincorporated Areas | December 4, 2001, December 11, 2001, The Pensacola News Journal | Mr. Hunter Walker, Santa Rosa County Administrator, 6495 Caroline Street, Suite D, Milton, Florida 32570-4592 | Nov. 27, 2001 | 120274 D&E
Sarasota | City of Sarasota | December 5, 2001, December 12, 2001, Sarasota Herald Tribute | The Honorable Carolyn Mason, Mayor of the City of Sarasota, P.O. Box 1058, Sarasota, Florida 34230 | Nov. 28, 2001 | 125150 E
Pinellas | City of St. Petersburg | November 14, 2001, November 21, 2001, St. Petersburg Times | The Honorable Rick Baker, Mayor of the City of St. Petersburg, P.O. Box 2842, St. Petersburg, Florida 33731-2842 | Nov. 7, 2001 | 125148 E
Leon | City of Tallahassee | January 16, 2002, January 23, 2002, Tallahassee Democrat | The Honorable Scott Maddox, Mayor of the City of Tallahassee, City Hall, 300 South Adams Street, Tallahassee, Florida 32301-1731 | Apr. 24, 2002 | 120144 D
Georgia:
Fulton | City of Alpharetta | October 11, 2001, October 18, 2001, The Review & News | The Honorable Charles E. Martin, Jr., Mayor of the City of Alpharetta, City Hall, 2 South Main Street, Alpharetta, Georgia 30004 | Jan. 17, 2001 | 130084 D
Columbia | Unincorporated Areas | October 25, 2001, November 1, 2001, The Augusta Chronicle | Mr. Barry Fleming, Chairman of the Columbia County, Board of Commissioners, 630 Ronald Reagan Drive, Evans, Georgia 30809 | Oct. 18, 2001 | 130059 D
Columbia | Unincorporated Areas | November 8, 2001, November 15, 2001, The Augusta Chronicle | Mr. Barry Flemming, Chairman of the Board, 630 Ronald Reagan Drive, Evans, Georgia 30809 | Nov. 1, 2001 | 130054 D
Fulton | Unincorporated Areas | October 25, 2001, November 8, 2001, The Atlanta Daily World | Mr. Thomas Andrews, Fulton County Manager, 141 Pryor Street S.W., Fulton County Government Center, Atlanta, Georgia 30303 | Jan. 31, 2002 | 135160 D
Gwinnett | Unincorporated Areas | November 8, 2001, November 15, 2001, Gwinnett Daily Post | Mr. Wayne Hill, Chairman of the Gwinnett County Board of Commissioners, Justice and Administration Center, 75 Langley Drive, Lawrenceville, Georgia 30045 | Nov. 1, 2001 | 130054 D
Harris | Unincorporated Areas | January 2, 2002, January 9, 2002, Harris County Journal | Ms. Carol Silva, Harris County Manager, P.O. Box 365, Hamilton, Georgia 31811 | Dec. 26, 2001 | 130338 D
Worth | Unincorporated Areas | October 24, 2001, Sylvester Local News | Mr. Dan Miller, Chairman of the Worth County Board of Commissioners, 201 North Main Street, 3rd Floor, Sylvester, Georgia 31791 | Nov. 16, 2001 | 130196 B
Worth | Unincorporated Areas | October 24, 2001, Sylvester Local News | Mr. Dan Miller, Chairman of the Worth County Board of Commissioners, 201 North Main Street, 3rd Floor, Sylvester, Georgia 31791 | Nov. 16, 2001 | 130196 B
Illinois:
Cook | Village of Arlington Heights | November 2, 2001, November 9, 2001, Daily Herald | The Honorable Arlene J. Mulder, Mayor of the Village of Arlington Heights, Arlington Heights Village Hall, 33 South Arlington Road, Arlington Heights, Illinois 60005 | Feb. 8, 2002 | 170056 F
Cook | Unincorporated Areas | January 25, 2002, The Daily Southtown | Mr. John H. Sroger, Jr., President, Cook County Board of Commissioners, 118 North Clark Street, Room 537, Chicago, Illinois 60602 | Feb. 24, 2002 | 170054 F
Cook | Village of Willows Springs | January 25, 2002, The Daily Southtown | The Honorable Terrence Carr, Mayor of the Village of Willows Springs, 8156 South Archer Avenue, Willows Springs, Illinois 60480 | Feb. 24, 2002 | 170174 F
Indiana:
Marion | City of Indianapolis | The Indianapolis Star, February 5, 2002 | The Honorable Bart Peterson, Mayor of the City of Indianapolis, City/County Building, Suite 2501, 200 East Washington Street, Indianapolis, Indiana 46204 | Mar. 7, 2002 | 180159 E
DeKalb | Unincorporated Areas | The Evening Star, February 26, 2002 | Ms. Connie Miles, President of the DeKalb County Board of Commissioners, 100 South Main Street, Auburn, Indiana 46706 | Mar. 7, 2002 | 180044 B
Noble | Unincorporated Areas | The Sun-News, February 5, 2002, February 12, 2002 | Mr. Mark Pankap, President of the Noble County Board of Commissioners, Noble County Courthouse, 101 North Orange Street, Albion, Indiana 46701 | May 14, 2002 | 180183 A&B
Steuben | Unincorporated Areas | Herald Republican, February 5, 2002 | Mr. Dale Hughes, Chairman of the Steuben County Board of Commissioners, Steuben County Community Center, 317 South Wayne Street, Suite 2J, Angola, Indiana 46703 | Mar. 7, 2002 | 180243 B
Kentucky: Jefferson | Unincorporated Areas | January 3, 2002, January 10, 2002, Courier-Journal | The Honorable Rebecca Jackson, Jefferson County Judge Executive, Jefferson County Courthouse, 527 West Jefferson Street, Suite 400, Louisville, Kentucky 40202 | Apr. 11, 2001 | 210120 D
Maine: Cumberland | Town of Scarborough | November 30, 2001, December 7, 2001, Portland Press Herald | Mr. Ronald W. Owens, Manager of the Town of Scarborough, P.O. Box 360, Scarborough, Maine 04070-0360 | Nov. 19, 2001 | 230052 D
Maryland: Frederick | City of Frederick | November 19, 2001, November 26, 2001, Frederick News Post | The Honorable James Grimes, Mayor of the City of Frederick, 101 North Court Street, Frederick, Maryland 21701 | Nov. 1, 2001 | 240030 B
Mississippi: Forrest and Lamar | City of Hattiesburg | January 24, 2002, January 30, 2002, Hattiesburg American | The Honorable J. Ed Morgan, Mayor of the City of Hattiesburg, P.O. Box 1898, Hattiesburg, Mississippi 39403 | Jan. 16, 2002 | 280053 D
Massachusetts: Plymouth | Town of Hanover | December 12, 2001, December 19, 2001, Hanover Mariner | Office of the Chairman of the Board of Selectmen, Town Hall, 550 Hanover Street, Hanover, Massachusetts 02339 | Mar. 13, 2002 | 250266 D
New York: Queensbury | Town of Queensbury | February 13, 2002, February 20, 2002, The Post-Star | Mr. Dennis Brower, Supervisor for the Town of Queensbury, 742 Bay Road, Queensbury, New York 12804 | Aug. 6, 2002 | 360879 B
North Carolina:
Wake | Town of Cary | November 23, 2001, November 30, 2001, The News and Observer | The Honorable Glenn D. Lang, Mayor of the Town of Cary, 318 North Academy Street, P.O. Box 8005, Cary, North Carolina 27512 | July 26, 2001 | 370238 D
Nash and Edgecomb | City of Rocky Mount | January 25, 2002, February 1, 2002, Rocky Mount Telegram | Mr. Stephen W. Raper, Rocky Mount City Manager, P.O. Box 1180, Rocky Mount, North Carolina 27802-1180 | May 3, 2002 | 370092 D
Pennsylvania:
Dauphin | Township of East Hanover | November 30, 2001, December 7, 2001, Patriot News | Mr. George Rish, Chairman, Township of East Hanover Board of Supervisors, 80848 Jonestown Road, Grantville, Pennsylvania 17028 | Nov. 14, 2001 | 420377 B
Carbon | Township of Lower Towamensing | December 28, 2001, January 4, 2002, Times News | Mr. Glen Hahn, Chairman, Township of Lower Towamensing Board of Supervisors, 595 Hahns Dairy Road, Palmerton, Pennsylvania 18701 | Apr. 5, 2002 | 421455 A
Carbon | Borough of Palmerton | December 28, 2001, January 4, 2002, Times News | Mr. John Vignone, Borough of Palmerton Council President, 443 Delaware Avenue, Palmerton, Pennsylvania 18701 | Apr 5, 2002 | 420253
Dauphin | Township of Swatara | December 7, 2001, December 14, 2001, Patriot News | Mr. Gregory J. Ricci, President of the Township of Swatara Board of Commissioners, 599 Eisenhower Boulevard, Swatara, Pennsylvania 17111-2397 | Mar. 15, 2002 | 420398 B
South Carolina:
Richland | Unincorporated Areas | December 26, 2001, January 2, 2002, The State Newspaper | Mr. T. Cary McSwain, Richland County Administrator, P.O. Box 192, 2020 Hampton Street, Columbia, South Carolina 29202 | Dec. 19, 2001 | 450170 D
Richland | Unincorporated Areas | December 17, 2001, December 24, 2001, The State Newspaper | Mr. T. Cary McSwain, Richland County Administrator, P.O. Box 192, 2020 Hampton Street, Columbia, South Carolina 29202 | Dec. 10, 2001 | 450170 D
Tennessee:
Williamson | City of Brentwood | November 23, 2001, November 30, 2001, The Review Appeal | The Honorable Joseph Reagan, Mayor of the City of Brentwood, 5211 Maryland Way, Brentwood, Tennessee 37024 | Nov. 16, 2001 | 470205 D
Shelby | City of Collierville | October 18, 2001, October 25, 2001, The Collierville Herald | The Honorable Linda Kerley, Mayor of the Town of Collierville, 101 Walnut Street, Collierville, Tennessee 38017-2671 | Jan. 31, 2002 | 470263 D
Sumner and Davidson | City of Goodlettsville | December 27, 2001, January 3, 2002, The Tennessean | The Honorable Bobby T. Jones, Mayor of the City of Goodlettsville, City Hall, 105 South Main Street, Goodlettsville, Tennessee 37072 | Apr. 4, 2002 | 470287 D
McNairy | Unincorporated Areas | January 16, 2002, January 23, 2002, Independent Appeal | Mr. Mike Smith, McNairy County Executive, McNairy County Courthouse, 170 West Court Avenue, Selmer, Tennessee 38375 | Apr. 24, 2002 | 470127 C
Shelby | Unincorporated Areas | Janaury 18, 2002, January 25, 2002, Daily News | The Honorable Tim Rout, Mayor of Shelby County, 160 N. Main Street, Suite 850, Memphis, Tennessee 38103 | Apr. 24, 2002 | 470214 D
Virginia: Prince William | Unincorporated Areas | February 7, 2002, February 14, 2002, Potomac News | Mr. Craig Gerhart, Prince William County Executive, 1 County Complex Court, Prince William, Virginia 22192 | May 16, 2002 | 510119 D

(Catalog of Federal Domestic Assistance No. 83.100, “Flood Insurance.”)
Dated: March 5, 2002.
Robert F. Shea,
Acting Administrator, Federal Insurance and Mitigation Administration.

[FR Doc. 02-5835 Filed 3-11-02; 8:45 am]

BILLING CODE 6718-01-P